ENVIRONMENTAL PROTECTION AGENCY

40 CFR Part 52

[EPA-R05-OAR-2018-0664; FRL-12010-01-R5]

Air Plan Approval; Wisconsin; Infrastructure SIP Requirements for the 2015 Ozone NAAQS

AGENCY: Environmental Protection Agency (EPA).

ACTION: Final rule.

SUMMARY: The Environmental Protection Agency (EPA) is approving elements of a State Implementation Plan (SIP) submission from Wisconsin regarding the infrastructure requirements of section 110 of the Clean Air Act (CAA) for the 2015 ozone National Ambient Air Quality Standards (NAAQS). The infrastructure requirements are designed to ensure that the structural components of each state's air quality management program are adequate to meet the state's responsibilities under the CAA.

DATES: This final rule is effective on September 30, 2024.

ADDRESSES: EPA has established a docket for this action under Docket ID No. EPA-R05-OAR-2018-0664. All documents in the docket are listed on the https://www.regulations.gov website. Although listed in the index, some information is not publicly available, i.e., Confidential Business Information (CBI), Proprietary Business Information (PBI), or other information whose disclosure is restricted by statute. Certain other material, such as copyrighted material, is not placed on the internet and will be publicly available only in hard copy form. Publicly available docket materials are available either through https://www.regulations.gov or at the Environmental Protection Agency, Region 5, Air and Radiation Division, 77 West Jackson Boulevard, Chicago, Illinois 60604. This facility is open from 8:30 a.m. to 4:30 p.m., Monday through Friday, excluding Federal holidays. We recommend that you telephone Eric Svingen, Environmental Engineer, at (312) 353-4489 before visiting the Region 5 office.

FOR FURTHER INFORMATION CONTACT: Eric Svingen, Air and Radiation Division (AR-18J), Environmental Protection Agency, Region 5, 77 West Jackson Boulevard, Chicago, Illinois 60604, (312) 353-4489, svingen.eric@epa.gov.

SUPPLEMENTARY INFORMATION: Throughout this document whenever “we,” “us,” or “our” is used, we mean EPA.

I. What is the background of this SIP submission?

Whenever EPA promulgates a new or revised NAAQS, CAA section 110(a)(1) requires states to make SIP submissions to provide for the implementation, maintenance, and enforcement of the NAAQS. This type of SIP submission is commonly referred to as an “infrastructure SIP.” These submissions must meet the various requirements of CAA section 110(a)(2), as applicable.

On September 30, 2020 (85 FR 61673), EPA published a notice of proposed rulemaking proposing to approve most elements of a September 14, 2018, submission from the Wisconsin Department of Natural Resources (WDNR) intended to address all applicable infrastructure requirements for the 2015 ozone NAAQS. EPA's proposed rulemaking contained a detailed analysis of Wisconsin's submission. Public comments on the September 30, 2020, proposed rule were due by October 30, 2020.

EPA's September 30, 2020, proposed rulemaking did not address Wisconsin's infrastructure requirements under section 110(a)(2)(D)(i)(I) and section 110(a)(2)(F). In separate rulemakings, EPA has since taken action on these elements. In a February 13, 2023 (88 FR 9384), rulemaking addressing the interstate transport elements under section 110(a)(2)(D)(i)(I), EPA approved Wisconsin's September 14, 2018, submission as to the requirements of prong 1 and disapproved the submission as to the requirements of prong 2. On July 24, 2023 (88 FR 47375), EPA approved an August 3, 2022, submission from Wisconsin certifying that its SIP is sufficient to meet the stationary source monitoring and reporting element under section 110(a)(2)(F). In this action, which finalizes EPA's September 30, 2020, proposed rulemaking, EPA is taking final action on all remaining elements of Wisconsin's infrastructure requirements for the 2015 ozone NAAQS.

II. What are EPA's responses to comments?

During the public comment period on EPA's September 30, 2020, proposed rulemaking, EPA received one comment in support of our action, as well as one adverse comment, which addressed three aspects of Wisconsin's infrastructure SIP submission. For each aspect, summaries of the adverse comment and EPA's responses are provided below.

Comment: A commenter alleges that EPA cannot finalize approval of Wisconsin's submission as meeting the infrastructure SIP requirements of CAA section 110(a)(2)(B). The commenter notes that EPA's proposed rule refers to our October 2, 2019, approval of Wisconsin's 2020 Annual Monitoring Network Plan (AMNP), but the commenter suggests that Wisconsin would have submitted a more recent AMNP in July 2020. The commenter asserts that EPA should have based its proposal on the most recent AMNP. The commenter notes that neither AMNP was in the docket folder for the proposed rulemaking, and requests that EPA add both AMNPs to the docket and open a new 30-day public comment period.

Response: EPA disagrees that EPA must propose approval only on the most recently submitted AMNP. Wisconsin submitted its 2021 AMNP on June 29, 2020, and EPA approved the 2021 AMNP on September 15, 2020. On September 10, 2020, when the Deputy Regional Administrator signed EPA's rulemaking proposing approval of the state's infrastructure SIP submission for the 2015 ozone NAAQS with respect to section 110(a)(2)(B), EPA's approval of the 2020 AMNP was the most current approval, and therefore EPA could not have cited approval of the 2021 AMNP. Further, a state's 2021 AMNP describes changes it intended to make no earlier than January 1, 2021. On the date EPA published the proposed approval, Wisconsin was implementing its monitoring network according to the 2020 AMNP.

Additionally, in its 2021 AMNP, Wisconsin outlined changes to its monitoring network that had no adverse impact on its ability to monitor ozone. In Table 14 of its 2021 AMNP, Wisconsin listed proposed changes at only four monitoring sites. At its Milwaukee SER DNR Headquarters site, the state proposed to terminate monitoring of eight pollutants including ozone, because of the scheduled demolition of the facility adjacent to that site. At the other three sites, the state proposed new monitoring or increased monitoring of pollutants that had earlier been monitored at the Milwaukee SER DNR Headquarters site. The state proposed to start monitoring of five of those pollutants, including ozone, nearby at a new Milwaukee UWM Park & Ride site. At its Milwaukee Sixteenth St. Health Center site, the state proposed increasing the frequency of sampling of particles with an aerodynamic diameter of less than or equal to 2.5 micrometers (PM2.5). The state also proposed to start monitoring oxides of nitrogen (NOX) at its Chiwaukee site. Importantly, the 2021 AMNP was not Wisconsin's first mention of the proposed termination of the Milwaukee SER DNR Headquarters site. The state had already proposed this termination in its 2020 AMNP, and EPA's September 30, 2020, rulemaking references EPA's October 2, 2019, approval of that plan. EPA accordingly concludes that referencing the most recently approved 2020 AMNP at the time of signature of the proposed rulemaking, as opposed to the most recently submitted 2021 AMNP, did not deprive commenters of an ability to raise concerns about adverse changes to the state's ozone monitoring network. EPA is now adding the 2020 AMNP and 2021 AMNP to the docket folder for this action.

EPA further disagrees that any AMNP must have been included in the docket at the time of the comment period for this action. Prior to submitting an AMNP to EPA, WDNR makes each AMNP broadly available through a public comment process (see 40 CFR 58.10). Both the 2020 AMNP and 2021 AMNP are available at the WDNR website. WDNR's September 14, 2018, submittal contains a link to a subpage of this website, and EPA provided the same link in the proposed rule. Accordingly, EPA concludes that commenters had knowledge of, and access to, both the 2020 and 2021 AMNPs during the comment period and thus there was no need for EPA to provide an additional comment period for this purpose.

Comment: A commenter alleges that EPA cannot finalize approval of Wisconsin's submission as meeting the infrastructure SIP requirements of CAA section 110(a)(2)(E). The commenter asserts that Wisconsin's infrastructure SIP submission for the 2015 ozone NAAQS fails to provide any documentation, budgetary details, or personnel numbers to support its conclusions that Wisconsin meets the infrastructure SIP requirements relating to adequate resources to carry out the SIP. The commenter notes that WDNR's submission identifies its section 105 grants and Environmental Performance Partnership Agreement (EnPPA), but states that these sources were neither described in detail in the submission nor included in the docket for EPA's proposed rulemaking. The commenter refers to requirements at 40 CFR 51.280 and asserts that 1-, 3-, and 5-year resource projections are required but not included in Wisconsin's submission. The commenter also cites to a report which states that environmental agency funding in Wisconsin has been cut by 36 percent from 2008 to 2018. The commenter alleges that Wisconsin “must provide concrete assurances that it has adequate funding and personnel both now and for the next 5 years.”

Response: EPA agrees that CAA section 110(a)(2)(E)(i) requires each state to provide necessary assurances that the state will have adequate personnel, funding, and authority under state law necessary to carry out the SIP during the five years following the SIP submission.¹ However, CAA section 110 does not mandate a specific methodology for EPA to evaluate the adequacy of state resources available to implement the SIP.

¹ EPA guidance identifies a five-year period following the SIP submission as the relevant timeframe for this evaluation. See Stephen D. Page, Director, Office of Air Quality Planning and Standards. “Guidance on Infrastructure State Implementation Plan (SIP) Elements under Clean Air Act Section 110(a)(1) and 110(a)(2).” Memorandum to EPA Air Division Directors, Regions 1 through 10, September 13, 2013, at page 40 (2013 Guidance).

The commenter expresses concern that that Wisconsin's funding to implement the SIP may be inadequate based on potential budget cuts. Specifically, the commenter asserts that “Wisconsin ranks first in environmental protection funding cuts across the country,” and to support this contention cites to a report by the Environmental Integrity Project, as well as a public radio news story referencing that report, which both allege that Wisconsin cut its environmental agency funding by 36 percent between 2008 and 2018. As discussed on page 8 of the report, the alleged 36% cut is expressed in inflation-adjusted dollars. As shown in Table 1 of the report, this was a decrease from a budget of $91.4 million in 2008 to a budget of $68.9 million in 2018, which is a 25 percent cut without adjusting for inflation.

To evaluate the commenter's concern that Wisconsin budgets are declining in a way that would make the state unable to continue to implement its SIP, EPA reviewed the state's enacted budgets, which are posted online by the Wisconsin Department of Administration.² Wisconsin's budgets are passed by the Wisconsin legislature and signed by the governor on a biennial cycle, covering periods from July 1 of one odd-numbered year through June 30 of the next odd-numbered year. To evaluate the commenter's claims regarding Wisconsin's 2008 budget, EPA reviewed Wisconsin's enacted biennial budget for 2007-2009. EPA also reviewed Wisconsin's four most recent enacted biennial budgets, for the periods 2017-2019, 2019-2021, 2021-2023, and 2023-2025, which cover a total of eight years, including the 2018 year referenced by the commenter, and spanning the complete five-year period following Wisconsin's September 14, 2018, submittal.

² Wisconsin's current enacted budget is available at https://doa.wi.gov/Pages/StateFinances/CurrentBiennialBudget.aspx. Previous enacted budgets are available at https://doa.wi.gov/Pages/StateFinances/PastBudgets.aspx.

As noted by the Environmental Integrity Project, Wisconsin's pollution control and cleanup programs are housed within WDNR, which also manages state parks, recreational areas, wildlife programs, and fisheries programs. This structure is distinct from the organization of most states, which consolidate pollution control and cleanup programs in a single agency, like Indiana's Department of Environmental Management. In the case of Wisconsin, the Environmental Integrity Project has “attempted to identify and distinguish spending for those functions from the department's overall budget,” and the 25 percent nominal budget cut is meant to quantify cuts to the portion of WDNR's funding allocated to pollution control and cleanup programs, which the Environmental Integrity Project describes as “environmental agency funding.” The Environmental Integrity Project report does not explain its methodology for separating WDNR's “environmental agency funding” from other funding.

In reviewing biennial budgets, EPA first reviewed data for WDNR's department-wide budget. WDNR's budget did decline between 2008 and 2018, but by an amount much smaller than the 25 percent nominal cut described in the Environmental Integrity Project report. WDNR's total budget was $573 million for 2007-2008 and $580 million for 2008-2009, compared to $549 million for 2017-2018 and $547 million for 2018-2019, which is a cut of less than 6 percent. In the six years preceding the current biennial budget, starting in 2017-2018 and ending in 2022-2023, WNDR's total budget was between $549 million and $575 million, which is a range of less than 5 percent, with no clear trends of increases or decreases within this period. In the current biennial budget, WDNR's total budget has been increased relative to the level of previous years, at $640 million for 2023-2024 and $581 million for 2024-2025.

Given that the Environmental Integrity Project analyzed only a portion of WDNR's budget, EPA also reviewed previous and current biennial budget allocations for the nine programs that together comprise the total WDNR budget. One of these programs, titled “environmental management”, contains pollution control and cleanup programs including air management, water quality, wastewater management, and remediation. The environmental management program budget was $70.8 million for 2017-2018 and $70.0 million for 2018-2019, which differs by less than 3 percent from the Environmental Integrity Project's calculation of $68.9 million in “environmental agency funding” for 2018. Because the Environmental Integrity Project did not provide its methodology in the report, EPA cannot verify whether WDNR's environmental management program was the budget used by the Environmental Integrity Project in calculating 2018 “environmental agency funding.” For 2008, WDNR's nine programs were organized and labeled differently, and EPA does not see any program or combination of programs from 2008 that is similar to the $91.4 million funding level in the report, such that the Environmental Integrity Project might be able to draw comparisons to 2018 funding levels for WDNR's environmental management program.

During EPA's evaluation of state assurances of adequate resources under section 110(a)(2)(E), it is not necessary for EPA to determine the exact amount of resources a state needs to carry out its SIP. In this case, EPA's evaluation of the facts indicates that the WDNR budget has not changed to the degree that it would preclude the state from implementing its SIP, given that the overall budget did not decrease by more than 6 percent between 2008 and 2018. Further, as shown below in Table 1, funding for WDNR and for its environmental management program has not decreased over the eight-year period starting in 2017-2018 and ending in 2024-2025. As noted above, WNDR's total budget in this period was between $549 million and $640 million, with no clear trends of increases or decreases over the first six years followed by an increase in the current 2023-2025 biennial budget. The environmental management program budget in this period was between $70.0 million and $102 million, with an overall trend of increased funding during this period, particularly in the current 2023-2025 biennial budget. Considered together, the biennial budgets show a trajectory of stable or increasing resources for WNDR and its environmental management program over the five-year period beginning with Wisconsin's September 14, 2018, submission.

Table 1—Enacted Budgets for WDNR and Its Environmental Management Program
Budget period | Total WDNR budget | Environmental management program budget
2017-2018 | $549,243,200 | $70,843,300
2018-2019 | 549,243,200 | 70,002,900
2019-2020 | 574,682,800 | 75,134,000
2020-2021 | 548,896,600 | 74,975,000
2021-2022 | 566,301,400 | 83,014,200
2022-2023 | 558,779,900 | 77,963,500
2023-2024 | 640,434,900 | 101,630,600
2024-2025 | 580,922,900 | 81,381,000

Wisconsin's submission additionally identified the section 105 Air Pollution Control Grant as a source of resources applied towards implementing its air program, and Wisconsin explains that “EPA and WDNR negotiate priorities and grant commitments under the EnPPA, which is a two-year agreement itemizing performance measures and outcomes across various funding sources and grants.” To further assess the adequacy of Wisconsin's resources towards carrying out the SIP, EPA reviewed EnPPA documents from the five-year period beginning with Wisconsin's September 14, 2018, submission. EPA is placing the EnPPA materials in the docket for this action. The EnPPA documents provide further support to EPA's finding that Wisconsin has had adequate resources to carry out its SIP. In these materials, EPA and WDNR staff review objectives and activities relating to the SIP, across categories including mobile source programs, ambient air monitoring, NAAQS implementation, and regional haze. Within each category, EPA and WDNR staff discuss progress towards specific commitments, such as conducting vehicle emissions testing in ozone nonattainment areas, operating ozone monitors, implementing maintenance plans in areas that have been redesignated to attainment of the 2015 ozone NAAQS, and issuing air quality forecasts for criteria pollutants including ozone. The EnPPA process does not require documentation of every commitment in every year, however when progress within each commitment is discussed, EPA and WDNR consistently agree that Wisconsin's progress is ongoing or satisfactory.

Comment: A commenter alleges that EPA cannot finalize approval of Wisconsin's submission as meeting the infrastructure SIP requirements of CAA section 110(a)(2)(C), section 110(a)(2)(D)(i)(II) relating to the Prevention of Significant Deterioration (PSD), or section 110(a)(2)(J). The commenter notes EPA's January 17, 2017 (82 FR 5182), rulemaking promulgating revisions to the Guideline on Air Quality Models at appendix W to 40 CFR part 51 (“Guideline”), which required states to integrate the revisions no later than January 17, 2018. The commenter cites EPA's July 6, 2020 (85 FR 40165), rulemaking proposing approval of elements of an infrastructure SIP submission from Kentucky, which expressed EPA's view that applications of the Guideline include the infrastructure requirements relating to PSD, which means the requirements at CAA section 110(a)(2)(C), section 110(a)(2)(D)(i)(II) relating to PSD, and section 110(a)(2)(J). The commenter notes that the Wisconsin Administrative Code Chapter Natural Resources (NR) 405.10 specifies that modeling required under the state's PSD rules shall be based on the Guideline, but NR 484.04 incorporates by reference the version of the Guideline that was in effect on August 1, 2016. The commenter acknowledges that states with references to earlier versions of the Guideline may be able to rely on their authority to use alternative models to satisfy these infrastructure requirements but suggests that neither Wisconsin nor EPA has confirmed the state's ability to implement the current version of the Guideline.

Response: The air quality modeling procedures at NR 405.10 were approved into the Wisconsin SIP on May 27, 1999 (64 FR 28745), as part of the state's PSD program. EPA agrees with the commenter that NR 405.10 incorporates by reference the version of the Guideline that was effective on August 1, 2016, which is not the current version of the Guideline. However, as the commenter suggests, Wisconsin has the authority to conduct modeling according to the current Guideline under substitution procedures provided within NR 405.10. Specifically, where it is inappropriate to use the modeling procedures provided in the earlier Guideline that is incorporated by reference, then NR 405.10 provides that another model may be substituted. NR 405.10 further provides that a substitution shall be subject to public comment procedures and that approval of the EPA Administrator shall be obtained for any substitution.

In EPA's January 17, 2017, rulemaking promulgating revisions to the Guideline, EPA explained to states that the new revisions to the Guideline “must be integrated into the regulatory processes of respective reviewing authorities and followed by applicants” by January 17, 2018. In EPA's view, by issuing this direction to states to begin using the revised Guideline, the Agency has in effect provided its approval for the state to substitute the current Guideline in place of an earlier Guideline, which thus functionally satisfies the requirement for administrator approval at NR 405.10. Were the state seeking to use some alternative approach that EPA had not already determined to be appropriate by updating the Guideline and instructing states to integrate it into their programs, then the EPA approval process required in NR 405.10 would still apply. Further, any PSD application is already subject to the public participation requirements at NR 405.15, which satisfies the requirement at NR 405.10 for public comment on air quality modeling. EPA therefore concludes that the SIP-approved modeling procedures at NR 405.10 are adequate to authorize and allow the state to conduct modeling according to the current Guideline, and thus adequate to meet the infrastructure requirements relating to PSD at CAA section 110(a)(2)(C), section 110(a)(2)(D)(i)(II), and section 110(a)(2)(J).

III. What action is EPA taking?

EPA is approving most elements of a submission from Wisconsin certifying that its current SIP is sufficient to meet the required infrastructure elements under section 110(a)(1) and (2) for the 2015 ozone NAAQS.

EPA's actions for the state's satisfaction of infrastructure SIP requirements pursuant to section 110(a)(2) and NAAQS are contained in the table below.

Element | 2015 Ozone
(A)—Emission limits and other control measures | A
(B)—Ambient air quality monitoring/data system | A
(C)1—Program for enforcement of control measures | A
(C)2—Minor NSR | A
(C)3—PSD | A
(D)1—I Prong 1: Interstate transport—significant contribution to nonattainment | NA
(D)2—I Prong 2: Interstate transport—interference with maintenance | NA
(D)3—II Prong 3: Interstate transport—interference with PSD | A
(D)4—II Prong 4: Interstate transport—interference with visibility protection | A
(D)5—Interstate and international pollution abatement | A
(E)1—Adequate resources | A
(E)2—State board requirements | A
(F)—Stationary source monitoring system | NA
(G)—Emergency powers | A
(H)—Future SIP revisions | A
(I)—Nonattainment planning requirements of part D | *
(J)1—Consultation with government officials | A
(J)2—Public notification | A
(J)3—PSD | A
(J)4—Visibility protection | *
(K)—Air quality modeling/data | A
(L)—Permitting fees | A
(M)—Consultation/participation by affected local entities | A

In the above table, the key is as follows:

A | Approve.
NA | No Action/Separate Rulemaking.
* | Not germane to infrastructure SIPs.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on communities with environmental justice (EJ) concerns to the greatest extent practicable and permitted by law. EPA defines EJ as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

WDNR did not evaluate EJ considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving EJ for communities with EJ concerns.

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by October 29, 2024. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Dated: August 26, 2024.
Debra Shore,
Regional Administrator, Region 5.

For the reasons stated in the preamble, title 40 CFR part 52 is amended as follows:

PART 52—APPROVAL AND PROMULGATION OF IMPLEMENTATION PLANS

1. The authority citation for part 52 continues to read as follows:

Authority: 42 U.S.C. 7401 et seq.

2. Section 52.2591 is amended by:

a. Revising paragraph (i); and

b. Removing and reserving paragraph (l).

The revision reads as follows:

§ 52.2591 Section 110(a)(2) Infrastructure Requirements.

* * * * *

(i) Approval—In September 14, 2018, and August 3, 2022, submissions, WDNR certified that the state has satisfied the infrastructure SIP requirements of section 110(a)(2)(A) through (H), and (J) through (M) for the 2015 ozone NAAQS. For section 110(a)(2)(D)(i)(I), prong 1 is approved and prong 2 is disapproved.

* * * * *

[FR Doc. 2024-19548 Filed 8-29-24; 8:45 am]

BILLING CODE 6560-50-P